DEPARTMENT OF COMMERCE

Foreign-Trade Zones Board

[B-5-2025]

Foreign-Trade Zone (FTZ) 205, Notification of Proposed Production Activity; Rincon Power, LLC; (Contactors, Relays and Switches); Carpinteria, California

Rincon Power, LLC submitted a notification of proposed production activity to the FTZ Board (the Board) for its facility in Carpinteria, California within FTZ 205. The notification conforming to the requirements of the Board's regulations (15 CFR 400.22) was received on January 30, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: contactors and relays for switching power at voltages exceeding 1,000 volts; contactors and relays for switching power at voltages not exceeding 1,000 volts; battery disconnect rotary isolation switches for power at voltages exceeding 1,000 volts; current sensors with fluxgate; hardware kits including: nuts, washers, lock washers for relays contactors and rotary isolation switches; wire harnesses for relays, contactors and rotary isolation switches; mounting brackets for relays, contactors and rotary isolation switches; and, custom formed gaskets and grommet seals, for contactors, relays and rotary isolation switches (duty rate ranges from duty-free to 2.7%).

The proposed foreign-status materials/components include: custom formed o-rings, gaskets and grommet seals (made of synthetic rubber, silicone rubber, or silicone foam rubber); gasket seals (made of polyimide with acrylic adhesive); gasket seals, cut or formed from polyimide or polytetrafluoroethylene sheets; custom formed ceramic magnets, Neodymium magnets, electromagnetic components including, coils, bobbins, flux tubes, plungers, top cores, bottom cores, outer cores or cans, magnet bridges or holders, and shafts; switch sub-assemblies, for voltages not exceeding 1,000 volts; switch sub-assemblies, for voltages exceeding 1,000 volts; micro switches for auxiliary power; custom formed copper busbars; custom printed circuit board assemblies for use in contactors, relays, or rotary isolation switches; custom plastic molded components in the form of housings including tops, bottoms, bases, caps and covers; custom plastic or ceramic molded components in the form of arc chambers including envelope tops and bottoms, shaft guides or bushings; custom plastic molded components for incorporating auxiliary micro switches including brackets and carriers; custom plastic molded components in the form of connector housings including shells and plugs; custom plastic molded components in the form of handles including bezels, shrouds, caps, covers, and levers; custom formed moveable contact bars of copper, silver tin oxide, tungsten, tellurium, glidcop, or molybdenum; headers, custom formed and brazed isolator subassemblies with ceramic and metal alloy components including glidcop, copper, tellurium, tungsten, silver tin oxide, steel, or kovar; custom formed actuator components in the form of springs, bellows, shafts, slide bearings, auxiliary arms, plunger rods, and spacers; and, custom machined arc chamber isolators of ceramic (duty rate ranges from duty-free to 5.8%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is March 19, 2025.

A copy of the notification will be available for public inspection in the “Online FTZ Information System” section of the Board's website.

For further information, contact Christopher Wedderburn at Chris.Wedderburn@trade.gov.

Dated: February 4, 2025.
Elizabeth Whiteman,
Executive Secretary.

[FR Doc. 2025-02348 Filed 2-6-25; 8:45 am]

BILLING CODE 3510-DS-P